DEPARTMENT OF THE INTERIOR

National Park Service

[NPS-WASO-NAGPRA-NPS0036328; PPWOCRADN0-PCU00RP14.R50000]

Notice of Inventory Completion: Indiana State Museum and Historic Sites Corporation, Indianapolis, IN

AGENCY: National Park Service, Interior.

ACTION: Notice.

SUMMARY: In accordance with the Native American Graves Protection and Repatriation Act (NAGPRA), the Indiana State Museum and Historic Sites Corporation (ISMHS) has completed an inventory of human remains and associated funerary objects and has determined that there is no cultural affiliation between the human remains and associated funerary objects and any Indian Tribe. The human remains and associated funerary objects were removed from Floyd County, IN.

DATES: Disposition of the human remains and associated funerary objects in this notice may occur on or after September 11, 2023.

ADDRESSES: Michele Greenan, Indiana State Museum and Historic Sites Corporation, 650 West Washington Street, Indianapolis, IN 46204, telephone (317) 473-0836, email mgreenan@indianamuseum.org.

SUPPLEMENTARY INFORMATION: This notice is published as part of the National Park Service's administrative responsibilities under NAGPRA. The determinations in this notice are the sole responsibility of the ISMHS. The National Park Service is not responsible for the determinations in this notice. Additional information on the determinations in this notice, including the results of consultation, can be found in the inventory or related records held by the ISMHS.

Description

Human remains representing, at minimum, 99 individuals were removed from Floyd County, IN. The site, identified as archeological site 12FL0073, is also referred to as the State Road 111 Slide Correction Project (the Indiana Department of Transportation (INDOT) project (DES #1592476) that resulted in the 2021-2022 removal of human remains from the site). Site 12FL0073 is a Middle-Late Archaic period site located along the Ohio River in Southern Indiana. Diagnostic artifacts associated with the site indicate a date range of approximately 4200 BCE through 1000 BCE, with limited evidence that it may extend earlier to 6000 BCE. Two radiocarbon dates taken from the site, 5350+/- 130 BP (3350 BCE) and 4950 +/-40 BP (2950 BCE), further validates a Middle-Late Archaic period association.

Site 12FL0073 was first recorded in 1998, when human remains were found eroding out of the riverbank. In 1998 and 1999, burial remains were removed under Indiana Division of Historic Preservation and Archaeology (DHPA) accidental discovery number AD 980013 (March 1998) and accidental discovery AD 990032 (July 1999). Between 2001 and 2002, an archeological project was carried out through the University of Kentucky (UK) at the site. Researchers from the University of Indianapolis (UINDY) were asked to assist with burial features and human remains found during these projects. Following these projects, the human remains and associated funerary objects were housed at UINDY and UK. In 2015, the Indiana Department of Transportation (INDOT) began assessing site 12FL0073 as they addressed erosion occurring along the bank of the Ohio River. This erosion was undermining State Road 111. During these assessments, the severity of the erosion was understood, and it was clear that other human remains at site 12FL0073 were in immediate danger. In November 2020, INDOT contacted the ISMHS to help facilitate NAGPRA compliance as they (working through outside contractors) removed these burials. INDOT also requested that the ISMHS include the human remains and associated funerary objects from the site that were housed at the UK and UINDY for inclusion in the inventory. The human remains and associated funerary objects housed at UK were transferred to the ISMHS in May 2021. The human remains and associated funerary objects housed at UINDY, which included the human remains removed under the 1998 and 1999 accidental discovery numbers, were transferred to ISMHS in September 2022. The human remains from the INDOT project were transferred to ISMHS in two groups, one in May of 2021 and the second in late January 2023.

The human remains consist of individual burials and single skeletal elements. The 211 associated funerary objects are 21 hafted bifaces, 21 bifaces, four scrapers, four flake tools, 16 cores, two hematite pestles, two granitic axes, one sandstone bannerstone, six cannel coal beads, two crinoid stem column beads, three sandstone pitted stones, one hematite pitted stone, two granitic or quartzite hammerstones, three granitic hammerstones, one core/tested cobble, one hematite chopper, one bone atlatl hook/spur, one bone atlatl tubular weight, one incised bone drill, two bone pin fragments, one bone awl fragment, one polished bone fragment, one granitic cobble tool, one lot consisting of unmodified chert blocks, three lots consisting of red ochre particles, eight lots consisting of hematite fragments, five lots consisting of slate fragments, 32 lots consisting of flakes/shatter, one lot consisting of siltstone fragments, four hematite manuports, four granite manuports, one fire-cracked quartzite manuport, two rounded cobble manuports, one limestone manuport, one slate manuport, one sandstone manuport, one siltstone manuport, 25 lots consisting of non-human unburned bone fragments, nine lots consisting of non-human burned bone fragments, one lot consisting of indeterminant seeds, two lots consisting of burned nutshell, four lots consisting of unmodified shell fragments, one lot consisting of charcoal, three lots consisting of fire-cracked rocks, and three lots consisting of unmodified pebbles.

Aboriginal Land

The human remains and associated funerary objects in this notice were removed from known geographic locations. These locations are the aboriginal lands of one or more Indian Tribes. The following information was used to identify the aboriginal land: a final judgment of the Indian Claims Commission or the United States Court of Claims, a treaty, an Act of Congress, or an Executive Order.

Determinations

Pursuant to NAGPRA and its implementing regulations, and after consultation with the appropriate Indian Tribes, the ISMHS has determined that:

• The human remains described in this notice represent the physical remains of 99 individuals of Native American ancestry.

• The 211 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Absentee-Shawnee Tribe of Indians of Oklahoma; Delaware Nation, Oklahoma; Delaware Tribe of Indians; Eastern Shawnee Tribe of Oklahoma; Miami Tribe of Oklahoma; Peoria Tribe of Indians of Oklahoma; Shawnee Tribe; and The Osage Nation.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after September 11, 2023. If competing requests for disposition are received, the ISMHS must determine the most appropriate requestor prior to disposition. Requests for joint disposition of the human remains and associated funerary objects are considered a single request and not competing requests. The ISMHS is responsible for sending a copy of this notice to the Indian Tribes identified in this notice.

Authority: Native American Graves Protection and Repatriation Act, 25 U.S.C. 3003, and the implementing regulations, 43 CFR 10.9 and 10.11.

Dated: August 3, 2023.
Melanie O'Brien,
Manager, National NAGPRA Program.

[FR Doc. 2023-17134 Filed 8-9-23; 8:45 am]

BILLING CODE 4312-52-P